DEPARTMENT OF HEALTH AND HUMAN SERVICES

National Institutes of Health

Government-Owned Inventions; Availability for Licensing

AGENCY: National Institutes of Health, Public Health Service, DHHS.

ACTION: Notice.

SUMMARY: The invention listed below is owned by an agency of the U.S. Government and is available for licensing in the U.S. in accordance with 35 U.S.C. 207 to achieve expeditious commercialization of results of federally-funded research and development. Foreign patent applications are filed on selected inventions to extend market coverage for companies and may also be available for licensing.

ADDRESSES: Licensing information and copies of the U.S. patent application listed below may be obtained by contacting Catherine Joyce, Ph.D., J.D., at the Office of Technology Transfer, National Institutes of Health, 6011 Executive Boulevard, Suite 325, Rockville, Maryland 20852-3804; telephone: 301/496-7056 ext. 258; fax: 301/402-0220; e-mail: joycec@od.nih.gov. A signed Confidential Disclosure Agreement will be required to receive copies of the patent application.

Thymidylate Synthase Peptides that Bind to Thymidylate Synthase Messenger RNA

Drs. Carmen Allegra and Donna Voeller (NCI).

DHHS Reference No. E-311-00/0 filed Mar 07 2001.

Thymidylate synthase (TS) is a folate-dependent enzyme that catalyzes the reductive methylation of 2'-deoxyuridine-5'monphosphate (dUMP) by the reduced folate-5,10-methylene tetrahydrofolate to deoxythymidine 5'-monophosphate (dTMP, thymidylate). Once synthesized, dTMP is phosphorylated to dTDP and then to dTTP, which is the direct precursor for DNA synthesis. Given the direct role of TS in the biosynthesis of dTMP and the finding that inhibition of dTMP synthesis results in prompt cessation of cellular proliferation and growth, TS represents an important target for cancer chemotherapy.

Specific TS peptides have been discovered which bind to TS mRNA. These peptides may be of use in screening assays to identify agents that bind TS mRNA or that inhibit the binding of TS protein to TS mRNA. These peptides are also of use in treating subjects in conjunction with other chemotherapeutic agents, and in identifying molecules and mimetics that bind TS mRNA or bind the bimolecular complex of TS protein and TS mRNA.

The above-mentioned invention is available for licensing on an exclusive or non-exclusive basis.

Dated: January 28, 2002.
Jack Spiegel,
Director, Division of Technology Development and Transfer, Office of Technology Transfer, National Institutes of Health.

[FR Doc. 02-2908 Filed 2-6-02; 8:45 am]

BILLING CODE 4140-01-P